DEPARTMENT OF TRANSPORTATION

Federal Aviation Administration

14 CFR Part 39

[Docket No. 2003-NE-21-AD]

RIN 2120-AA64

Airworthiness Directives; International Aero Engines AG (IAE) V2522-A5, V2524-A5, V2527-A5, V2527E-A5, V2527M-A5, V2530-A5, and V2533-A5 Turbofan Engines

AGENCY: Federal Aviation Administration (FAA), DOT.

ACTION: Notice of proposed rulemaking (NPRM).

SUMMARY: The FAA proposes to supersede an existing airworthiness directive (AD) for certain IAE V2522-A5, V2524-A5, V2527-A5, V2527E-A5, V2527M-A5, V2530-A5, and V2533-A5 turbofan engines. That AD currently requires initial and repetitive inspections of the master magnetic chip detector (MCD) or the No. 1, 2, 3 bearing chamber MCD. This proposed AD would require the MCD inspections, and would require replacing certain No. 3 bearings and replacing or recoating certain high pressure compressor (HPC) stubshaft assemblies as mandatory terminating actions to the repetitive MCD inspections. This proposed AD is prompted by the development of a terminating action to the repetitive MCD inspections. We are proposing this AD to prevent failure of the No. 3 bearing, which could result in in-flight shutdown (IFSD) and smoke in the cockpit and cabin.

DATES: We must receive any comments on this proposed AD by November 17, 2003.

ADDRESSES: Use one of the following addresses to submit comments on this proposed AD:

• By mail: Federal Aviation Administration (FAA), New England Region, Office of the Regional Counsel, Attention: Rules Docket No. 2003-NE-21-AD, 12 New England Executive Park, Burlington, MA 01803-5299.

• By fax: (781) 238-7055.

• By e-mail: 9-ane-adcomment@faa.gov.

You can get the service information identified in this proposed AD from International Aero Engines AG, 400 Main Street, East Hartford, CT 06108; telephone: (860) 565-5515; fax: (860) 565-5510.

You may examine the AD docket at the FAA, New England Region, Office of the Regional Counsel, 12 New England Executive Park, Burlington, MA.

FOR FURTHER INFORMATION CONTACT: James Rosa, Aerospace Engineer, Engine Certification Office, FAA, Engine and Propeller Directorate, 12 New England Executive Park, Burlington, MA 01803; telephone (781) 238-7152; fax (781) 238-7199.

SUPPLEMENTARY INFORMATION:

Comments Invited

We invite you to submit any written relevant data, views, or arguments regarding this proposal. Send your comments to an address listed under ADDRESSES. Include “AD Docket No. 2003-NE-21-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

On May 29, 2003, the FAA issued AD 2003-11-23, Amendment 39-13183 (68 FR 33621, June 5, 2003). That AD requires initial and repetitive inspections of the master MCD or the No. 1, 2, 3 bearing chamber MCD for contamination, and if the contamination is bearing material, replacement of the engine before further flight. That AD was prompted by 19 failures of the No. 3 bearing attributed to ball spalling and race fracture. Of the 19 failures, seven resulted in in-flight shutdowns (IFSDs) and 12 resulted in unscheduled engine removals (UERs). Of the seven IFSDs, two were associated with smoke in the cabin or cockpit. The smoke is a result of the ball spalling and race fracture of failed No. 3 bearings, P/N 2A1165, and occurs when there is hard particle contamination in the oil system. The contamination is caused by the release of coating particles on HPC stubshafts with low-energy plasma coating. The problem exists on certain No. 3 bearings, P/N 2A1165 that are less tolerant to damage from this contamination. This AD is prompted by the addition of a mandatory terminating action to the repetitive chip detector inspections. That condition, if not corrected, could result in failure of the No. 3 bearing, which could result in IFSD and smoke in the cockpit and cabin.

Actions Since AD 2003-11-23 Was Issued

Since that AD was issued, IAE has issued Service Bulletin No. V2500-ENG-72-0459, dated June 27, 2003, that provides procedures for replacing certain No. 3 bearings, P/N 2A1165, and replacing or recoating certain HPC stubshafts that have a low-energy plasma coating with HPC stubshafts that have a high-energy plasma coating.

FAA's Determination and Requirements of the Proposed AD

We have evaluated all pertinent information and identified an unsafe condition that is likely to exist or develop on other products of this same type design. Therefore, we are proposing this AD, which would require:

• Initial inspection of the master MCD and the No. 1, 2, 3 bearing chamber MCD within 125 hours time-in-service (TIS) after the effective date of this AD,

• Repetitive inspections of the master MCD and the No. 1, 2, 3 bearing chamber MCD within 125 hours time-since-last inspection,

• Replacement of the No. 3 bearing, P/N 2A1165, at the next shop visit for any reason, and

• Replacement of HPC stubshafts that have a low-energy plasma coating with HPC shafts that have a high-energy plasma coating or recoating with a high-energy plasma coating at the next shop visit for any reason.

Changes to 14 CFR Part 39—Effect on the Proposed AD

On July 10, 2002, we published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

There are about 404 IAE V2522-A5, V2524-A5, V2527-A5, V2527E-A5, V2527M-A5, V2530-A5, and V2533-A5 turbofan engines of the affected design in the worldwide fleet. We estimate that 170 engines installed on airplanes of U.S. registry would be affected by this proposed AD. We also estimate that it would take approximately 150 work hours per engine to perform the proposed actions, and that the average labor rate is $65 per work hour. Required parts would cost about $32,000 per engine. Based on these figures, we estimate the total cost of the proposed AD to U.S. operators to be $7,097,500.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-21-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13183 (68 FR 33621, June 5, 2003), and by adding a new airworthiness directive to read as follows:

International Aero Engines AG: Docket No. 2003-NE-21-AD. Supersedes AD 2003-11-23, Amendment 39-13183.

Comments Due Date

(a) The Federal Aviation Administration (FAA) must receive comments on this airworthiness directive (AD) action by November 17, 2003.

Affected ADs

(b) This AD supersedes AD 2003-11-23, Amendment 39-13183.

Applicability

(c) This AD applies to International Aero Engines AG (IAE) V2522-A5, V2524-A5, V2527-A5, V2527E-A5, V2527M-A5, V2530-A5, and V2533-A5 turbofan engines that have a serial number (SN) from V10600 through V11250 inclusive. These engines are installed on, but not limited to, Airbus Industrie A319, A320, and A321 series airplanes.

Unsafe Condition

(d) This AD was prompted by reports of No. 3 bearing failures that resulted in in-flight shutdown (IFSD) and smoke in the cockpit and cabin. We are issuing this AD to prevent failure of the No. 3 bearing, which could result in IFSD and smoke in the cockpit or cabin.

Compliance

(e) You are responsible for having the actions required by this AD performed within the compliance times specified unless the actions have already been done.

Inspection of the Master Magnetic Chip Detector (MCD) or the No. 1, 2, 3 Bearing Chamber MCD

(f) For engines that have a No. 3 bearing, part number (P/N) 2A1165, installed, do the following:

(1) Within 125 hours time-in-service (TIS) after the effective date of this AD, inspect the master MCD and the No. 1, 2, 3 bearing chamber MCD.

(2) Thereafter, within 125 hours time-since-last inspection, inspect the master MCD and the No. 1, 2, 3 bearing chamber MCD.

(3) If you find bearing material on the master MCD or No. 1, 2, 3 bearing chamber MCD, replace the engine before further flight.

Replacement of No. 3 Bearing

(g) For engines that have a SN from V10600 through V11250 inclusive with No. 3 bearing, P/N 2A1165, installed, replace the No. 3 bearing at the next shop visit for any reason.

(h) After the effective date of this AD, do not install any No. 3 bearing, P/N 2A1165, removed in paragraph (g) of this AD, into any engine.

Replacement or Rework of High-Pressure Compressor (HPC) Stubshaft

(i) For engines that have a SN from V10600 through V11250 inclusive, replace the HPC stubshaft with an HPC stubshaft that has a high-energy plasma coating or rework the HPC stubshaft to a high-energy plasma coating at the next shop visit for any reason.

Terminating Action

(j) Performing the requirements specified in paragraphs (g) and (i) of this AD is terminating action to the repetitive MCD inspections specified in paragraph (f)(1) through (f)(3) of this AD.

Alternative Methods of Compliance

(k) The Manager, Engine Certification Office, has the authority to approve alternative methods of compliance for this AD if requested using the procedures found in 14 CFR 39.19.

Material Incorporated by Reference

(l) None.

Related Information

(m) You can find information on inspecting the master MCD and the No. 1, 2, 3 bearing chamber MCD in section 79-00-00-601 of the Aircraft Maintenance Manual. You can find information on replacing the No. 3 bearing and replacing or recoating the HPC stubshaft in IAE Service Bulletin No. V2500-ENG-72-0459, dated June 27, 2003.

Issued in Burlington, Massachusetts, on September 11, 2003.
Francis A. Favara,
Acting Manager, Engine and Propeller Directorate, Aircraft Certification Service.

[FR Doc. 03-23674 Filed 9-16-03; 8:45 am]

BILLING CODE 4910-13-P